DEPARTMENT OF AGRICULTURE

Submission for OMB Review; Comment Request

November 12, 2019.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725—17th Street NW, Washington, DC 20503. Commenters are encouraged to submit their comments to OMB via email to: OIRA_Submission@omb.eop.gov or fax (202) 395-5806 and to Departmental Clearance Office, USDA, OCIO, Mail Stop 7602, Washington, DC 20250-7602.

DATES: Comments regarding these information collections are best assured of having their full effect if received by December 18, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: AMS Grant Programs.

OMB Control Number: 0581-0240.

Summary of Collection: In 2016, OMB approved 0581-0240 which combined five grant programs (1) the Federal-State Marketing Improvement Program (FSMIP), (2) the Farmers Market, (3) the Local Food Promotion Program (FMLFPP), (4) the Specialty Crop Multi-State Program (SCMP), and (5) the Specialty Crop Block Grant Program (SCBGP) into a single collection package entitled AMS Grant Programs. This renewal request is to extend AMS' current approval to collect information for these five grant programs and to add four additional grant programs to this collection. The four new grant programs are the Dairy Business Innovation (DBI) Initiatives, Regional Food System Partnerships (RFSP), the Sheep Production and Marketing Grant Program (SPMGP), and the Acer Access and Development Program (Acer).

AMS Grant Programs are authorized pursuant to the Agricultural Marketing Act (AMA) of 1946 (7 U.S.C. 1621, et. seq.) and are implemented through the Uniform Administrative Requirements, Cost Principles, and Audit Requirements for Federal Awards (Super Circular) (2 CFR 200).

Need and Use of the Information: The information collected is needed to certify that grant participants are complying with applicable program regulations, and the data collected are the minimum information necessary to effectively carry out the requirements of the program. The information collection requirements in this request are essential to carry out the intent of the AMA, to provide the respondents the type of service they request, and for AMS to administer these programs. The purpose of AMS Grant Programs is to provide grants to eligible entities. Without the required information, AMS will not be able to review, award, reimburse, or monitor grants to eligible applicants.

Description of Respondents: State, Local or Tribal Government.

Number of Respondents: 11,161.

Frequency of Responses: Recordkeeping; Reporting: Annually; Semi-annually.

Total Burden Hours: 49,807.

Ruth Brown,
Departmental Information Collection Clearance Officer.

[FR Doc. 2019-24844 Filed 11-15-19; 8:45 am]

BILLING CODE 3410-02-P